DEPARTMENT OF DEFENSE

Department of the Army

[Docket ID: USA-2022-HQ-0004]

Proposed Collection; Comment Request

AGENCY: Department of the Army, Department of Defense (DoD).

ACTION: 60-Day information collection notice.

SUMMARY: In compliance with the Paperwork Reduction Act of 1995, the Department of the Army announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 25, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the U.S. Army Research Institute, Building 90, 851 McClellan Ave., Fort Leavenworth, Kansas 66027, ATTN: Dr. Michele A. Calton, or call 913-684-9792.

SUPPLEMENTARY INFORMATION:

Title; Associated Form; and OMB Number: Inclusion Policy Practice Decoupling Phase II; OMB Control Number 0702-0151.

Needs and Uses: This information collection requirement is necessary to evaluate the statistical validity of a scientific model and associated measurement instrument. The model and instrument could be used by the Army for deeper understanding of how to improve inclusion policies and practices. Once all data collection is complete, the data will be analyzed to test hypotheses regarding our scientific and practical understanding of the relationships between diversity, inclusion, and organizational outcomes. Specifically, what are the relationships between alignment (or misalignment/decoupling) of inclusion policies and practices, diversity, and organizational outcomes; does alignment of inclusion policies and practices mediate organizational outcomes expected from diversity? This examination is the first of its kind and will contribute to the scientific understanding of inclusivity.

Affected Public: Individuals or households.

Annual Burden Hours: 1,500.

Number of Respondents: 2,000.

Responses per Respondent: 1.

Annual Responses: 2,000.

Average Burden per Response: 45 minutes.

Frequency: Once.

Dated: February 18, 2022.
Aaron T. Siegel,
Alternate OSD Federal Register Liaison Officer, Department of Defense.

[FR Doc. 2022-03933 Filed 2-22-22; 8:45 am]

BILLING CODE 5001-06-P